Title 3—

The President

Proclamation 9371 of November 20, 2015

National Family Week, 2015

By the President of the United States of America

A Proclamation

Across the range of diverse experiences and traditions that have been written into our Nation's story, family has remained a steadfast and common foundation. Every day, families offer comfort and support to one another with enduring and unconditional love and they contribute to their communities and our country. During National Family Week, we uplift and honor the families that give so much to forge a brighter future for themselves and for America.

All families deserve every opportunity to thrive, and the Affordable Care Act has given millions of American families the peace of mind that comes with health insurance. My Administration is dedicated to helping working families feel more secure in a constantly changing economy, and I have pushed to make paid family leave available for all, so that new parents can spend time with their newborns and still support their families. And because too many hardworking people are still forced to choose between a paycheck and caring for a sick child or an elderly relative at home, I have taken action to help States enact paid leave and paid sick leave laws of their own. Additionally, I continue to call on the Congress to pass the Healthy Families Act, which would allow working women and men to earn up to one week of paid sick leave per year—precious time that could be used to care for themselves and their families.

Raising the minimum wage is one of the best ways to give a well-earned boost to working families. Benefiting employees, businesses, and our whole economy, raising the wage will help Americans from all walks of life breathe easier knowing they can pay their bills and provide for their loved ones at the same time. Moreover, to secure the promise of happy and healthy golden years for our Nation's seniors, we will continue working to provide more Americans with access to strong and flexible retirement plans that are stable and affordable. And because we have a sacred obligation to the men and women who give so much to defend our country and our freedom, my Administration has taken action to improve mental health care and education services for veterans, service members, and their families. Joining Forces, an initiative launched by First Lady Michelle Obama and Dr. Jill Biden, is also working to support our selfless military families by connecting them with the resources and services they deserve.

It is the responsibility of all Americans to build a country future generations will be proud of and inspired by. This week, let us reflect on and applaud the hard work, resilience, and dedication of our families. As we reminisce on warm memories and share in the joy and love family can provide, let us also pledge to lift up our loved ones and recommit to the family bonds that have strengthened the fabric of our Nation.

NOW, THEREFORE, I, BARACK OBAMA, President of the United States of America, by virtue of the authority vested in me by the Constitution and the laws of the United States, do hereby proclaim November 22 through November 28, 2015, as National Family Week. I invite all States, communities, and individuals to join in observing this week with appropriate ceremonies and activities to honor our Nation's families.

IN WITNESS WHEREOF, I have hereunto set my hand this twentieth day of November, in the year of our Lord two thousand fifteen, and of the Independence of the United States of America the two hundred and fortieth.

[FR Doc. 2015-30251

Filed 11-24-15; 11:15 am]

Billing code 3295-F6-P